DEPARTMENT OF THE TREASURY

Office of Foreign Assets Control

Notice of OFAC Sanctions Actions

AGENCY: Office of Foreign Assets Control, Treasury.

ACTION: Notice

SUMMARY: The U.S. Department of the Treasury's Office of Foreign Assets Control (OFAC) is publishing the names of one individual, seven entities, and seven vessels that have been placed on OFAC's Specially Designated Nationals and Blocked Persons List (SDN List) based on OFAC's determination that one or more applicable legal criteria were satisfied. All property and interests in property subject to U.S. jurisdiction of these persons and vessels are blocked, and U.S. persons are generally prohibited from engaging in transactions with them.

DATES: See SUPPLEMENTARY INFORMATION section for effective date(s).

FOR FURTHER INFORMATION CONTACT: OFAC: Bradley Smith, Director, tel.: 202-622-2490; Associate Director for Global Targeting, tel.: 202-622-2420; Assistant Director for Licensing, tel.: 202-622-2480; Assistant Director for Regulatory Affairs, tel.: 202-622-4855; or Assistant Director for Compliance, tel.: 202-622-2490.

SUPPLEMENTARY INFORMATION:

Electronic Availability

The SDN List and additional information concerning OFAC sanctions programs are available on OFAC's website (https://www.treasury.gov/ofac).

Notice of OFAC Action(s)

On August 15, 2024, OFAC determined that the property and interests in property subject to U.S. jurisdiction of the following persons and vessels are blocked under the relevant sanctions authority listed below.

BILLING CODE 4810-AL-P

On August 15, 2024, OFAC updated the entry on the SDN List for the following vessel, which continues to be blocked under the relevant sanctions authorities listed below.

Dated: August 15, 2024.
Lisa M. Palluconi,
Acting Director, Office of Foreign Assets Control, U.S. Department of the Treasury.

[FR Doc. 2024-18706 Filed 8-20-24; 8:45 am]

BILLING CODE 4810-AL-C